NATIONAL SCIENCE FOUNDATION

Special Emphasis Panel in Electrical and Communications Systems; Notice of Meeting

In accordance with the Federal Advisory Committee Act (Pub. L. 92-463, as amended), the National Science Foundation announces the following meetings of the Special Emphasis Panel in Electrical and Communications Systems (1196):

Date and Time: November 13, 2000; 8:30 a.m. to 5 p.m.

Contact Person: Dr. Filbert Bartoli, Program Director, Division of Electrical and Communications Systems, National Science Foundations, 4201 Wilson Boulevard, Room 675, Arlington, VA 22230. Telephone: (703) 292-8339.

Agenda: To review and evaluate CAREER (MEMS) proposals submitted in response to program announcement NSF 00-89 as part of the selection process for awards.

Date and Time: November 28-29, 2000; 8:30 a.m. to 5 p.m.

Contact Person: Dr. Kishan Baheti, Program Director, Control, Networks and Computational Intelligence (CNCI), Division of Electrical and Communications Systems, National Science Foundations, 4201 Wilson Boulevard, Room 675, Arlington, VA 22230. Telephone: (703) 292-8339.

Agenda: To review and evaluate research proposals in the CNCI program as part of the selection process for awards.

Place: National Science Foundation, Room 680, 4201 Wilson Boulevard, Arlington, VA.

Type of Meetings: Closed.

Purpose of Meetings: To provide advice and recommendations concerning proposals submitted to NSF for financial support.

Reason for Closing: The proposals being reviewed include information of a proprietary or confidential nature, including technical information; financial data, such as salaries; and personal information concerning individuals associated with the proposals. These matters are within exemptions 4 and 6 of 5 U.S.C. 552b(c), (4) and (6) the Government in the Sunshine Act.

Dated: October 27, 2000.
Karen J. York,
Committee Management Officer.

[FR Doc. 00-28411 Filed 11-3-00; 8:45 am]

BILLING CODE 7555-01-M